FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 25, 2015.

A. Federal Reserve Bank of Atlanta (Chapelle Davis, Assistant Vice President) 1000 Peachtree Street NE., Atlanta, Georgia 30309:

1. John M. Spottswood, Jr., Terri M. Spottswood, JMS Dynasty Trust, The J.M. and T.M. Spottswood Irrevocable Property Trust II, Robert A. Spottswood, RAS Dynasty Trust, Elaine M. Spottswood, Mary Anne Spottswood, Phillip G. Spottswood, Robert A. Spottswood, Jr., William B. Spottswood, WBS Dynasty Trust, Charles C. Spottswood, William B Spottswood, Jr., and Michelle M. Spottswood, all of Key West, Florida; Lande A. Spottswood, and Christopher C. Juban, both of Houston Texas; to retain voting shares and thereby retain direct control of First State Bank of the Florida Keys Holding Company, and indirect control of First State Bank of the Florida Keys, both in Key West, Florida.

B. Federal Reserve Bank of Minneapolis (Jacquelyn K. Brunmeier, Assistant Vice President) 90 Hennepin Avenue, Minneapolis, Minnesota 55480-0291:

1. The Fishback Annuity Trust I, the Fishback Annuity Trust II, the Fishback Annuity Trust VI, Patricia S. Fishback, individually and as voting trustee of the trusts, all of Brookings, South Dakota, William Cornick Stephen Fishback, Francesca Margaret Fishback, both of San Francisco, California; Abby Margaret Rivlin, and Toby Sebastian Rivlin, both of Madison, Wisconsin; to retroactively join the Fishback Family Control group which controls the voting shares of Fishback Financial Corporation, Brookings, South Dakota and indirectly control First Bank & Trust, Brookings, South Dakota, First Bank & Trust, N.A., Pipestone, Minnesota, First Bank & Trust, Sioux Falls, South Dakota, and First Bank & Trust of Milbank, Milbank, South Dakota.

C. Federal Reserve Bank of Dallas (Robert L. Triplett III, Senior Vice President) 2200 North Pearl Street, Dallas, Texas 75201-2272:

1. The Estate of Joe E. Sharp (Zan Sharp Prince and Robert Justin Sharp, Co-Executors), Bedford, Texas; Pop's Family Irrevocable Trust (Zan Sharp Prince, Trustee), Zan Sharp Prince, both of Weatherford, Texas; Matthew Scott Sharp, Grapevine, Texas; Robert Justin Sharp, Fort Worth, Texas; and Keleigh Sharp Greenwood, Kirkland, Washington; as a group acting in concert to acquire voting shares of First Baird, Bancshares, Inc., Bedford, Texas, and thereby indirectly acquire shares of First Bank Texas, SSB, Baird, Texas.

Board of Governors of the Federal Reserve System, August 5, 2015.
Margaret McCloskey Shanks,
Deputy Secretary of the Board.

[FR Doc. 2015-19667 Filed 8-10-15; 8:45 am]

BILLING CODE 6210-01-P